DEPARTMENT OF THE INTERIOR

Fish and Wildlife Service

Issuance of Permit for Incidental Take of Threatened Species for the Dahle Property, El Paso County, CO

AGENCY: Fish and Wildlife Service, Interior.

ACTION: Notice of issuance of permit for incidental take of endangered species.

On May 24, 2002, a notice was published in the Federal Register (Vol. 67 No. 101 FR 36644), that an application was filed with the U.S. Fish and Wildlife Service (Service) by Lee J. Dahle of the Dahle Property, El Paso County, Colorado, for a permit to incidentally take, pursuant to section 10(a)(1)(B) of the Endangered Species Act of 1973 (16 USC 1539), as amended, Preble's meadow jumping mouse (Zapus hudsonius preblei), pursuant to the terms of the “Low-Effect/Habitat Conservation Plan for Issuance of an Endangered Species Section 10(a)(1)(B) Permit for the Incidental Take of the Preble's Meadow Jumping Mouse (Zapus hudsonius preblei) at the Dahle Property” in El Paso County, Colorado.

Notice is hereby given that on July 29, 2002, as authorized by the provisions of the Act, the Service issued a permit (TE-056467) to the above named party subject to certain conditions set forth therein. The permit was granted only after the Service determined that it was applied for in good faith, that granting the permit will not be to the disadvantage of the threatened species, and that it will be consistent with the purposes and policy set forth in the Endangered Species Act, as amended.

Additional information on this permit action may be requested by contacting the Colorado Field Office, 755 Parfet Street, Suite 361, Lakewood, Colorado 80215, telephone (303) 275-2370, between the hours of 7 am and 4:30 pm weekdays.

Dated: July 29, 2002.
Ralph O. Morgenweck,
Regional Director, Region 6, U.S. Fish and Wildlife Service.

[FR Doc. 02-21087 Filed 8-19-02; 8:45 am]

BILLING CODE 4310-55-P